DEPARTMENT OF THE TREASURY

Office of Foreign Assets Control

Additional Designation of Individuals and Entities Pursuant to Executive Order 13224

AGENCY: Office of Foreign Assets Control, Treasury.

ACTION: Notice.

SUMMARY: The Treasury Department's Office of Foreign Assets Control (“OFAC”) is publishing updated information on the names of twenty-two individuals whose property and interests in property are blocked pursuant to Executive Order 13224 of September 23, 2001, “Blocking Property and Prohibiting Transactions With Persons Who Commit, Threaten To Commit, or Support Terrorism.”

DATES: The updating of this information by the Secretary of the Treasury for the twenty-two individuals identified in this notice pursuant to Executive Order 13224 is effective on July 27, 2006.

FOR FURTHER INFORMATION CONTACT: Assistant Director, Compliance Outreach & Implementation, Office of Foreign Assets Control, Department of the Treasury, Washington, DC 20220, tel.: 202-622-2490.

SUPPLENTARY IMFORMATION:

Electronic and Facsimile Availability

This document and additional information concerning OFAC are available from OFAC's Web site (http://www.treas.gov/ofac) or via facsimile through a 24-hour fax-on demand service, tel.: 202-622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001, terrorist attacks in New York, Pennsylvania, and at the Pentagon. The Order imposes economic sanctions on persons who commit, threaten to commit, or support acts of terrorism. The President identified in the Annex to the Order, as amended by Executive Order 13268 of July 2, 2002, 13 individuals and 16 entities as subject to the economic sanctions.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Secretary of the Treasury, in consultation with the Secretary of State, the Secretary of the Department of Homeland Security and the Attorney General, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Secretary of the Treasury, in consultation with the Secretary of State, the Secretary of the Department of Homeland Security and the Attorney General, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On July 27, 2006, the Secretary of the Treasury, in consultation with the Secretary of State, the Secretary of the Department of Homeland Security, the Attorney General, and other relevant agencies, updated the information for twenty-two individuals whose property and interests in property are blocked pursuant to Executive Order 13224.

The updated information for the twenty-two individuals is as follows:

1. ABDELHEDI, Mohamed Ben Mohamed (a.k.a. ABDELHEDI, Mohamed Ben Mohamed Ben Khalifa), via Catalani, n. 1, Varese, Italy; DOB 10 Aug 1965; POB Sfax, Tunisia; nationality Tunisia; Italian Fiscal Code BDLMMD65M10Z352S; Passport L965734 issued 6 Feb 1999 expires 5 Feb 2004.

2. AHMAD, Farhad Kanabi (a.k.a. HAMAWANDI, Kawa; a.k.a. OMAR ACHMED, Kaua), Lochhamer Str. 115, Munich 81477, Germany; Kempten Prison, Germany; DOB 1 Jul 1971; POB Arbil, Iraq; nationality Iraq; Travel Document Number A0139243.

3. AL SAADI, Faraj Farj Hassan (a.k.a. AL SA'IDI, Faraj Faraj Hussein; a.k.a. IMAD MOUHAMED ABDELLAH; a.k.a. MOHAMDED ABDULLA IMAD; a.k.a. MUHAMAD ABDULLAH IMAD; a.k.a. “HAMZA AL LIBI”), Viale Bligny 42, Milan, Italy; DOB 28 Nov 1980; POB Libya; alt. POB Gaza; alt. POB Jordan; alt. POB Palestine; nationality Libya alt. Palestinian; alt. Jordan; arrested United Kingdom.

4. AL-LIBI, Abd al-Muhsin (a.k.a. ABU BAKR, Ibrahim Ali Muhammad; a.k.a. SABRI, Abdel Ilah; a.k.a. TANTOUCHE, Ibrahim Abubaker; a.k.a. TANTOUSH, Ibrahim Abubaker; a.k.a. TANTOUSH, Ibrahim Ali Abu Bakr; a.k.a. “ ‘ABD AL-MUHSI”; a.k.a. “ ’ ABD AL-RAHMAN”; a.k.a. “ABU ANAS”); DOB 1966; alt. DOB 27 Oct 1969; nationality Libya; Passport 203037 (Libya).

5. BEN ATTIA, Nabil Ben Mohamed Ben Ali, Tunis, Tunisia; DOB 11 May 1966; POB Tunis, Tunisia; nationality Tunisia; Passport L289032 issued 22 Aug 2001 expires 21 Aug 2006.

6. BEN HENI, Lased (a.k.a. BEN HANI, Al As'ad); DOB 5 Feb 1969; POB Libya; alt. POB Tripoli.

7. BOUYAHIA, Hamadi Ben Abdul Aziz Ben Ali (a.k.a. GAMEL MOHAMED), Corso XXII Marzo 39, Milan, Italy; DOB 22 May 1966; alt. DOB 29 May 1966; POB Tunisia; nationality Tunisia; Passport L723315 issued 5 May 1998 expires 4 May 2003; arrested 30 Sep 2002.

8. DRISSI, Noureddine Ben Ali Ben Belkassem, Via Plebiscito 3, Cremona, Italy; DOB 30 Apr 1969; alt. DOB 30 Apr 1964; POB Tunisi, Tunisia; nationality Tunisia; Passport L851940 issued 9 Sep 1998 expires 8 Sep 2003; arrested 1 Apr 2003.

9. EL HADI, Mustapha Nasri Ben Abdul Kader Ait; DOB 5 Mar 1962; POB Tunis, Tunisia; nationality Algeria alt. Germany.

10. ESSAADI, Moussa Ben Amor Ben Ali (a.k.a. “ABDELRAHMMAN”; a.k.a. “BECHIR”; a.k.a. “DAH DAH”), Via Milano n.108, Brescia, Italy; DOB 4 Dec 1964; POB Tabarka, Tunisia; nationality Tunisia; Passport L335915 issued 8 Nov 1996 expires 7 Nov 2001.

11. HADDAD, Fethi Ben Assen Ben Salem, Via Fulvio Testi, 184, Cinisello Balsamo, Milan, Italy; Via Porte Giove, 1, Mortara, Pavia, Italy; DOB 28 Mar 1963; alt. DOB 28 Jun 1963; POB Tataouene, Tunisia; nationality Tunisia; Italian Fiscal Code HDDFTH63H28Z352V; Passport L 183017 issued 14 Feb 1996 expires 13 Feb 2001.

12. HAMAMI, Brahim Ben Hedili Ben Mohamed, Via de' Carracci n.l5, Casalecchio di Reno (Bologna), Italy; DOB 20 Nov 1971; POB Goubellat, Tunisia; alt. POB Koubellat, Tunisia; nationality Tunisia; Passport Z106861 issued 18 Feb 2004 expires 17 Feb 2009.

13. HAMRAOUI, Kamel Ben Mouldi Ben Hassan (a.k.a. “KAMEL”; a.k.a. “KIMO”), Via Bertesi 27, Cremona, Italy; DOB 21 Oct 1977; POB Beja, Tunisia; nationality Tunisia; Passport P229856 issued 1 Nov 2002 expires 31 Oct 2007; arrested 1 Apr 2003.

14. JAMMALI, Imed Ben Bechir Ben Hamda, via Dubini, n. 3, Gallarate, Varese, Italy; DOB 25 Jan 1968; POB Menzel Temine, Tunisia; nationality Tunisia; Italian Fiscal Code JMMMDI68A25Z352D; Passport K693812 issued 23 Apr 1999 expires 22 Apr 2004; Currently in jail in Tunisia.

15. JELASSI, Riadh Ben Belkassem Ben Mohamed; DOB 15 Dec 1970; POB Al-Mohamedia, Tunisia; nationality Tunisia; Passport L276046 issued 1 Jul 1996 expires 30 Jun 2001.

16. JENDOUBI, Faouzi Ben Mohamed Ben Ahmed (a.k.a. “SAID”; a.k.a. “SAMIR”), Via Agucchi n.250, Bologna, Italy; Via di Saliceto n.51/9, Bologna, Italy; DOB 30 Jan 1966; POB Beja, Tunisia; nationality Tunisia; Passport K459698 issued 6 Mar 1999 expires 5 Mar 2004.

17. MAAROUFI, Tarek Ben Habib Ben Al-Toumi; DOB 23 Nov 1965; POB Ghardimaou, Tunisia; alt. POB Ghar el-dimaa, Tunisia; nationality Tunisia; Passport E590976 (Tunisia) issued 19 Jun 1987 expires 18 Jun 1992.

18. MNASRI, Fethi Ben Rebai Ben Absha (a.k.a. FETHI, Alic; a.k.a. “ABU OMAR”; a.k.a. “AMOR”), Via Toscana n.46, Bologna, Italy; Via di Saliceto n.51/9, Bologna, Italy; DOB 6 Mar 1969; POB Baja, Tunisia; Passport L497470 issued 3 Jun 1997 expires 2 Jun 2002.

19. RIHANI, Lotfi Ben Abdul Hamid Ben Ali (a.k.a. “ABDERRAHMANE”), Via Bolgeri 4, Barni (Como), Italy; DOB 1 Jul 1977; POB Tunisi, Tunisia; nationality Tunisia; Passport L 886177 issued 14 Dec 1998 expires 13 Dec 2003.

20. SALEH AL-SAADI, Nassim Ben Mohamed Al-Cherif ben Mohamed (a.k.a. ABOU ANIS), Via Monte Grappa 15, Arluno (Milan), Italy; DOB 30 Nov 1974; POB Haidra Al-Qasreen, Tunisia; nationality Tunisia; Passport M 788331 issued 28 Sep 2001 expires 27 Sep 2006; arrested 30 Sep 2002.

21. TLILI, Al-Azhar Ben Ammar Ben Abadallah, Via Carlo Porta n.97, Legnano, Italy; DOB 26 Mar 1969; POB Tunis, Tunisia; Italian Fiscal Code TLLLHR69C26Z352G.

22. ZARKAOUI, Imed Ben Mekki Ben Al-Akhdar (a.k.a. “NADRA”; a.k.a. “ZARGA”), Via Col. Aprosio 588, Vallecrosia (IM), Italy; DOB 15 Jan 1973; POB Tunisi (Tunisia); nationality Tunisia; Passport M174950 issued 27 Apr 1999 expires 26 Apr 2004; arrested 30 Sep 2002.

Dated: July 27, 2006.
J. Robert McBrien,
Acting Director, Office of Foreign Assets Control.

[FR Doc. E6-12963 Filed 8-8-06; 8:45 am]

BILLING CODE 4811-37-P